DEPARTMENT OF HEALTH AND HUMAN SERVICES

Centers for Disease Control and Prevention

[60Day-24-1078; Docket No. CDC-2023-0086]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of Government information, invites the general public and other Federal agencies the opportunity to comment on a continuing information collection, as required by the Paperwork Reduction Act of 1995. This notice invites comment on a proposed information collection project titled The Division of Workforce Development (DWD) Fellowship Alumni Assessment. Information will be collected from graduates of selected public health fellowships to assess the impact of fellowship programs and improve their management.

DATES: CDC must receive written comments on or before December 29, 2023.

ADDRESSES: You may submit comments, identified by Docket No. CDC-2023-0086 by any of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

The Division of Workforce Development (DWD) Fellowship Alumni Assessment (OMB Control No. 0920-1078, Exp. 02/29/2024)—Revision—National Center for State, Tribal, Local, and Territorial Public Health Infrastructure and Workforce (NCSTLTPHIW), Centers for Disease Control and Prevention (CDC).

Background and Brief Description

The Centers for Disease Control and Prevention (CDC) works to protect America from health, safety and security threats, both foreign and in the U.S. CDC strives to fulfill this mission, in part, through a competent and capable public health workforce. One mechanism for developing the public health workforce is through fellowship programs like those sponsored and supported by the Division of Workforce Development (DWD).

A robust public health workforce has sufficient workforce, organizational, and systems capacity to deliver essential public health services and protect the public's health. In 2023, after a CDC reorganization agency-wide, a number of CDC career fellowships were consolidated within one new division, DWD, which has a lead role in public health workforce development. Across all of its branches, DWD manages or supports many full-time, cross-cutting career fellowship programs that support CDC and State, Tribal, local, and Territorial health departments, and partner organizations. Through these programs, DWD strives to provide quality training for current and future members of the public health workforce to ensure they have foundational and contemporary public health skills. Nearly all these programs serve as a pathway to CDC career communities and are an important source of supply for the public health workforce.

In 2015, CDC obtained OMB approval to conduct follow-up surveys of alumni who had completed the Public Health Associate Program (PHAP) (OMB Control No. 0920-1078). Findings from the PHAP alumni surveys have improved CDC's understanding of alumni retention and career progression in the public health workforce and have informed management of the PHAP. In the current Revision, CDC proposes to build on lessons learned in PHAP fellowship evaluation. CDC will broaden the scope of information collection to accommodate the full portfolio of DWD fellowships, which currently include the Epidemiology Elective Program (EEP), Evaluation Fellowship (EF), Epidemic Intelligence Service (EIS), CDC E-Learning Institute, Future Leaders in Infectious and Global Health Threats (FLIGHT), Laboratory Leadership Service (LLS), CDC Steven M. Teutsch Prevention Effectiveness (PE) Fellowship, Preventive Medicine Residency and Fellowship, Population Health Training in Place Program (PHTPP), Science Ambassador Fellowship (SAF), and PHAP. In addition to expanding the respondent universe for fellowship alumni, this ICR is intentionally removing the host site supervisor component included in the original ICR. This revision will specifically focus on fellowship alumni only. A new ICR will be created for the host site supervisor survey.

Each year, new cohorts ranging from three to 200 individuals are enrolled across these fellowship programs. While each fellowship differs in focus area, type of fellow, and projects, they all have the same mission: to train and provide learning opportunities to early- and mid-career professionals who contribute to the public health workforce. Post-fellowship, it is the goal that alumni seek employment within the public health system (i.e., Federal, State, Tribal, local, or Territorial health agencies, or non-governmental organizations).

CDC will apply a common approach to assessing how fellowship participation impacts the job placement, retention in the public health workforce, and career progression of alumni. DWD Fellowship Alumni Surveys will be administered to individual program alumni at three different time points (one year, three years, and five years post-program completion). Each fellowship program will invite their program's alumni to participate. Fellowships will be deploying surveys specific to their programs. Assessment questions will remain consistent at each administration timepoint (i.e., one year, three years, or five years post-program completion). The language, however, will be updated for each survey administration to reflect the appropriate time period. Surveys will be administered electronically; a link to the survey will be provided in an email invitation. CDC will discontinue the Host Site Supervisor Survey previously approved for the PHAP fellowship alumni.

CDC will use survey findings to document program outcomes, demonstrate evidence of impact, and inform decision making about future program direction. The results of these surveys may be published in peer reviewed journals and/or in non-scientific publications such as practice reports and/or fact sheets. OMB approval is requested for three years. The estimated burden is eight minutes per respondent per survey, and the total annualized estimated burden is 519 hours. Participation is voluntary and there are no costs to respondents other than their time.

Estimated Annualized Burden Hours
Type of respondents | Form name | Number of respondents | Number of responses per respondent | Average burden time per response (in hours) | Total response burden (in hours)
DWD Fellowship Alumni | DWD Alumni 1-Year Survey | 1300 | 1 | 8/60 | 173
DWD Fellowship Alumni | DWD Alumni 3-Year Survey | 1300 | 1 | 8/60 | 173
DWD Fellowship Alumni | DWD Alumni 5-Year Survey | 1300 | 1 | 8/60 | 173
Total |  |  |  |  | 519

Jeffrey M. Zirger,
Lead, Information Collection Review Office, Office of Public Health Ethics and Regulations, Office of Science, Centers for Disease Control and Prevention.

[FR Doc. 2023-23860 Filed 10-27-23; 8:45 am]

BILLING CODE 4163-18-P